DEPARTMENT OF HEALTH AND HUMAN SERVICES

Centers for Disease Control and Prevention

Notice of Award of a Sole Source Cooperative Agreement To Fund Uganda National Health Laboratories and Diagnostic Services (NHLDS)

AGENCY: Centers for Disease Control and Prevention (CDC), Department of Health and Human Services (HHS).

ACTION: Notice.

SUMMARY: The Centers for Disease Control and Prevention (CDC), located within the Department of Health and Human Services (HHS), announces the award of approximately $10,000,000, for Year 1 funding to NHLDS. The award will strengthen laboratory systems in Uganda by contributing to the attainment of HIV epidemic control and establishing sustainable and integrated systems for quality assured disease diagnostics, monitoring, and surveillance. Funding amounts for years 2-5 will be set at continuation.

DATES: The period for this award will be September 30, 2024, through September 29, 2029.

FOR FURTHER INFORMATION CONTACT: Christina Mwangi, Center for Global Health, Centers for Disease Control and Prevention, US Embassy Kampala, US Centers for Disease Control and Prevention, 1577 Ggaba Road, Telephone: 256772139023, Email: mwn0@cdc.gov.

SUPPLEMENTARY INFORMATION: The sole source award will strengthen Uganda's access to quality laboratory services during the scale up of HIV prevention, care, and treatment by supporting implementation of the Uganda National Health Laboratory Services (UNHLS) Policy II (2016) and its Strategic Plan (2020-2025).

NHLDS is in a unique position to conduct this work, as it is the primary stakeholder of laboratory-related policy development, strategic planning, and resources mobilization for the Ministry of Health (MOH). Additionally, NHLDS directly houses and manages the Central Public Health Reference Laboratory (CPHL) which is the national reference laboratory for HIV early infant diagnosis and viral load, national microbiology reference laboratory, national Tuberculosis (TB) reference laboratory, the national laboratory biorepository and national equipment calibration center. Furthermore, the NHLDS is the primary coordinator of the integrated national laboratory specimen transportation network that handles both HIV, TB and outbreak specimen referral across the country.

Summary of the Award

Recipient: Uganda National Health Laboratories and Diagnostic Services (NHLDS).

Purpose of the Award: The purpose of this award is to strengthen laboratory systems in Uganda by contributing to the attainment of HIV epidemic control and establishing sustainable and integrated systems for quality assured disease diagnostics, monitoring, and surveillance.

Amount of Award: For NHLDS, the approximate year 1 funding amount will be $10,000,000 in Federal Fiscal Year (FYY) 2024 funds, subject to the availability of funds. Funding amounts for years 2-5 will be set at continuation.

Authority: This program is authorized under Public Law 108-25 (the United States Leadership Against HIV AIDS, Tuberculosis and Malaria Act of 2003) [22 U.S.C. 7601, et seq.] and Public Law 110-293 (the Tom Lantos and Henry J. Hyde United States Global Leadership Against HIV/AIDS, Tuberculosis, and Malaria Reauthorization Act of 2008), and Public Law 113-56 (PEPFAR Stewardship and Oversight Act of 2013).

Period of Performance: The period for this award will be September 30, 2024, through September 29, 2029.

Dated: February 26, 2024.
Jamie Legier,
Acting Director, Office of Grants Services, Centers for Disease Control and Prevention.

[FR Doc. 2024-04399 Filed 3-1-24; 8:45 am]

BILLING CODE 4163-18-P